DEPARTMENT OF TRANSPORTATION

Federal Aviation Administration

Notice of Intent To Rule on Request To Amend an Approved Application To Impose and Use the Revenue From a Passenger Facility Charge (PFC) at Golden Triangle Regional Airport, Columbus, Mississippi

AGENCY: Federal Aviation Administration (FAA), DOT.

ACTION: Notice of intent to rule on a request to amend an approved PFC application.

SUMMARY: The FAA proposes to rule and invites public comment on the request to amend the approved application to impose and use the revenue from a PFC at Golden Triangle Regional Airport under the provisions of the Aviation Safety and Capacity Expansion Act of 1990 (Title IX of the Omnibus Budget Reconciliation Act of 1990) (Public Law 101-508) and part 158 of the Federal Aviation Regulations (14 CFR Part 158).

DATES: Comments must be received on or before October 27, 2000.

ADDRESSES: Comments on this request may be mailed or delivered in triplicate to the FAA at the following address: Jackson Airports District Office, 100 West Cross Street, Suite B, Jackson, Mississippi 39208-2307.

In addition, one copy of any comments submitted to the FAA must be mailed or delivered to Mr. Nick Ardillo, Executive Director of the Golden Triangle Regional Airport Authority at the following address: 2080 Airport Road, Columbus, MS 39701.

Air carriers and foreign air carriers may submit copies of written comments previously provided to the Golden Triangle Regional Airport Authority under section 158.23 of Part 158.

FOR FURTHER INFORMATION CONTACT: David Shumate, Program Manager, Jackson Airports District Office, 100 West Cross Street, Suite B, Jackson, MS 39208-2307, (601) 664-9882. The request may be reviewed in person at this same location.

SUPPLEMENTARY INFORMATION: The FAA proposes to rule and invites public comment on the request to amend the application to impose the revenue from and use the revenue from a PFC at Golden Triangle Regional Airport under the provisions of the Aviation Safety and Capacity Expansion Act of 1990 (Title IX of the Omnibus Budget Reconciliation Act of 1990) (Public Law 101-508) and Part 158 of the Federal Aviation Regulations (14 CFR Part 158).

On August 31, 2000, the FAA received the request to amend the application to impose the revenue from and use the revenue from a PFC submitted by Golden Triangle Regional Airport Authority within the requirements of section 158.25 of Part 158. The FAA will approve or disapprove the amendment, no later than December 29, 2000.

The following is a brief overview of the request.

PFC Application Amendment No.: 92-01-C-01-GTR.

Proposed increase in the PFC level: From $3.00 to $4.50.

Proposed charge effective date for new level: April 1, 2001

Proposed charge expiration date for new level: April 1, 2004

Total approved PFC Revenue: $1,693,211

Brief description of approved project: Renovate Terminal Building

Any person may inspect the request in person at the FAA office listed above under FOR FURTHER INFORMATION CONTACT.

In addition, any person may, upon request, inspect the request, notice and other documents germane to the request in person at the Golden Triangle Regional Airport Authority.

Issued in Jackson, Mississippi, on September 14, 2000.
Wayne Atkinson,
Manager, Jackson Airports District Office Southern Region.

[FR Doc. 00-24738 Filed 9-26-00; 8:45 am]

BILLING CODE 4910-13-M